DEPARTMENT OF THE INTERIOR

National Park Service

National Register of Historic Places; Notification of Pending Nominations

Nominations for the following properties being considered for listing in the National Register were received by the National Park Service before November 10, 2000. Pursuant to section 60.13 of 36 CFR Part 60 written comments concerning the significance of these properties under the National Register criteria for evaluation may be forwarded to the National Register, National Park Service, 1849 C St. NW., NC400, Washington, DC 20240. Written comments should be submitted by December 6, 2000.

Patrick W. Andrus,
Acting Keeper of the National Register.

CONNECTICUT

Litchfield County

Plymouth Center Historic District (Boundary Increase), 50 North St., 16 and 20 South St., Plymouth, 00001474

GEORGIA

De Kalb County

Stone Mountain Historic District, Roughly bounded by Stone Mountain Cemetery, Stone Mountain Memorial Park, Lucie St. CSX RR, VFW Dr., and Stone Mtn City, Stone Mountain, 00001476

Polk County

Cedartown Waterworks—Woman's Building—Big Spring Park Historic District, Jct. of Wissahickon Ave. and Bradford St., Cedartown, 00001475

Pulaski County

St. Thomas African Methodist Episcopal Church, 401 N. Dooly St., Hawkinsville, 00001477

IOWA

Guthrie County

All Saints Catholic Church, 420 N. Fremont, Stuart, 00001478

Woodbury County

Sioux City Public Library—North Side Branch, 810 29th St., Sioux City, 00001479

MARYLAND

Cecil County

Haviland, Edward W., House, 2464 Frenchtown Rd., Port Deposit, 00001480

MASSACHUSETTS

Hampden County

White Diner, The, (Diners of Massachusetts MPS) 14 Yelle St., Chicopee, 00001482

Hampshire County

Elm Street Historic District, Elm, Sunset, and Scotland Sts., Little Neponset Rd., Hatfield, 00001481

MICHIGAN

Emmet County

Grand Rapids and Indiana Railroad Harbor Springs Depot, 111 W. Bay St., Harbor Springs, 00001487

Grand Traverse County

Pulcipher, John, House, 7710 US 31 N., Acme Township, 00001484

Kent County

Berkey and Gay Furniture Company Factory, 940 Monroe Ave., NW.,

Peck Block, 34-50 Monroe Center NW., Grand Rapids, 00001483

Muskegon County

Union Depot, 610 Western Ave., Muskegon, 00001489

Ottawa County

Pere Marquette Railway Locomotive #1223, Chinook Pier Park, Jackson Ave., Grand Haven, 00001490

Saginaw County

Roethke, Theodore, Childhood Mome Complex, 1759 and 1805 Gratiot Ave., Saginaw, 00001485

Wayne County

Grand Circus Park Historic District (Boundary Increase), 25 W. Elizabeth St., Detroit, 00001488

MONTANA

Broadwater County

Crow Creek Water Ditch, 5 mi. W. of Townsend, Townsend, 00001492

Deer Lodge County

Morel Bridge, 25200 East Side Rd., Anaconda, 00001491

NEW JERSEY

Cape May County

Marine National Bank, 3301 Pacific Ave., Wildwood, 00001494

Middlesex County King's Highway Historic District, NJ 27, US 206, S. Brunswick Township, 00001493

NORTH CAROLINA

Mecklenburg County

Dilworth Historic District (Boundary Increase), E. side 2000 Blk. Euclid Ave., both sides 2000 blk. of Lyndhurst Ave., Charlotte, 00001495

TEXAS

Harris County

Minchen, Simon and Mamie, House, 1753 North Blvd., Houston, 00001496

VIRGINIA

Buckingham County

Guerrant House, Rte. 1, Arvonia, 00001497

WISCONSIN

Monroe County

Tomah Post Office, 903 Superior Ave., Tomah, 00001498

[FR Doc. 00-29667 Filed 11-20-00; 8:45 am]

BILLING CODE 4310-70-P